DEPARTMENT OF THE INTERIOR

Minerals Management Service

30 CFR Part 250

RIN 1010-AC32

Postlease Operations Safety

AGENCY: Minerals Management Service (MMS), Interior.

ACTION: Corrections to final regulations.

SUMMARY: This document contains corrections to the final rule titled “Postlease Operations Safety” that was published Tuesday, December 28, 1999 (64 FR 72756). We are correcting minor errors in four documents incorporated by reference and separating two document entries that were printed as one entry.

EFFECTIVE DATE: January 27, 2000.

FOR FURTHER INFORMATION CONTACT: Kumkum Ray, (703) 787-1600.

SUPPLEMENTARY INFORMATION:

Background

The final regulations that are the subject of these corrections supersede 30 CFR 250, subpart A, General, regulations on the effective date and affect all operators and lessees on the Outer Continental Shelf.

The published final regulations contained a complete listing of all of the documents MMS has incorporated by reference in the 30 CFR part 250 regulations. The rulemaking also included revisions and reaffirmations of several documents. The table of documents incorporated by reference in § 250.198(e) of the published final rule contained some minor errors and typographical mistakes which we are correcting.

Need for Correction

As published, the final regulations contain errors which may prove to be misleading and are in need of clarification.

Correction of Publication

Accordingly, the publication on December 28, 1999, of the final regulations, which were the subject of FR Doc. 99-31869, is corrected as follows:

§ 250.198 [Corrected]

On page 72790, in the table in § 250.198(e), in column two for the three entries for API MPMS, Chapter 2, Section 2A; API MPMS, Chapter 3, Section 1A; and API MPMS, Chapter 3, Section 1B, the citation “§ 250.1202(1)(4)” is corrected to read “§ 250.1202(l)(4)”. On pages 72790 and 72791, in the table in § 250.198(e), the entries for four documents are corrected, and the two entries that were printed as one entry should be reprinted, to read as follows:

§ 250.198 Documents incorporated by reference.

* * * * *

(e) * * *

Title of document | Incorporated by reference at
* * * * * *
API MPMS, Chapter 2, Section 2B, Calibration § 250.1202(1)(4) Calibration of Upright Cylindrical Tanks Using the Optical Reference Line Method, First Edition, March 1989, reaffirmed May 1996, API Stock No. H30023; also available as ANSI/ASTM D 4738-88 | 250.1202(1)(4).
* * * * * *
API MPMS, Chapter 11.1, Volume Correction Factors, Volume 1, Table 5A—Generalized Crude Oils and JP-4, Correction of Observed API Gravity to API Gravity at 60°F, and Table 6A—Generalized Crude Oils and JP-4, Correction of Volume to 60°F, against API Gravity 60°F, First Edition, August 1980, reaffirmed March 1997, API Stock No. H27000; also available as ANSI/ASTM D 1250 | § 250.1202(a)(3), (g)(3) and (1)(4).
* * * * * *
API MPMS, Chapter 11.2.2, Addendum to 250.1202(a)(3). Correlation of Vapor Pressure Correction for Natural Gas Liquids, First Edition, December 1984, reaffirmed March 1997, API Stock No. H27308; also available as GPA TP-15 | § 250.1202(a)(3).
* * * * * *
API MPMS, Chapter 14, Section 3, Part 2, Specification and Installation Requirements, Third Edition, February 1991, reaffirmed May 1996, API Stock No. H30351; also available as ANSI/API 2530, 1991 | § 250.1203(b)(2).
* * * * * *
API MPMS, Chapter 14, Section 5, Calculation of Gross Heating Value, Relative Density, and Compressibility Factor for Natural Gas Mixtures from Compositional Analysis, Revised 1996; order from Gas Processors Association, 6526 East 60th Street, Tulsa, Oklahoma 74145. | § 250.1203(b)(2).
* * * * * *
API MPMS, Chapter 14, Section 6, Continuous Density Measurement, Second Edition, April 1991, reaffirmed May 1998, API Stock No. H30346 | § 250.1203(b)(2).
* * * * * *

Dated: March 2, 2000.
E. P. Danenberger,
Chief, Engineering and Operations Division.

[FR Doc. 00-6663 Filed 3-16-00; 8:45 am]

BILLING CODE 4310-MR-P